DEPARTMENT OF ENERGY

Federal Energy Regulatory Commission

[Project No. 2368-059]

Algonquin Northern Maine Generating Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Subsequent Minor License.

b. Project No.: 2368-059.

c. Date Filed: December 3, 2019.

d. Applicant: Algonquin Northern Maine Generating Company (Algonquin).

e. Name of Project: Scopan Hydroelectric Project.

f. Location: The existing project is located on Scopan Stream in the Town of Masardis in Aroostook County, Maine. No federal lands are occupied by the project works or located within the project boundary.

g. Filed Pursuant to: Federal Power Act 16 U.S.C. 791 (a)-825(r).

h. Applicant Contact: Ian MacRobbie, Vice President, Operations, Algonquin Northern Maine Generating Company, 26 Canal Bank, Windsor Locks, Connecticut 06096; Telephone (905) 465-6119.

i. FERC Contact: John Baummer, (202) 502-6837 or john.baummer@ferc.gov.

j. Deadline for filing motions to intervene and protests, comments, recommendations, preliminary terms and conditions, and preliminary fishway prescriptions: 60 days from the issuance date of this notice; reply comments are due 105 days from the issuance date of this notice.

The Commission strongly encourages electronic filing. Please file motions to intervene and protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact the Federal Energy Regulatory Commission Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Scopan Hydroelectric Project consists of: (1) A 750-foot-long dam that includes: (a) A 330-foot-long, 45-foot-high earthen embankment section (north embankment) with a 194-foot-long, 49-foot-high concrete retaining wall at the downstream end of the embankment; (b) a 24-foot-long, 45-foot-high concrete gravity spillway section with a crest elevation of 590 feet National Geodetic Vertical Datum of 1929 (NGVD) and a single 13.5-foot-high spillway gate with two 10-inch-diameter minimum flow butterfly valves; (c) a 26-foot-long, 48-foot-high concrete intake and powerhouse section that includes: (i) Two 12-inch-wide head gates and trashracks with 3-inch clear-bar spacing; and (ii) a 26-foot-long, 49-foot-high concrete powerhouse with a single 1.5-megawatt vertical propeller turbine-generator unit; and (d) a 370-foot-long, 45-foot-high earthen embankment section (south embankment) with a 135.5-foot-long, 45-foot-high concrete retaining wall at the downstream end of the embankment; (2) an approximately 15-mile-long, 5,000-acre impoundment (Scopan Lake) with a useable storage volume of 57,920 acre-feet between elevations 590.5 and 603.2 feet NGVD; (3) three 13.45/2.4-kilovolt transformers and switch gear that connect the generator to Emera, Maine's regional transmission line; and (4) appurtenant facilities.

Algonquin operates the project in a store and release mode in which the impoundment is drawdown from January through March of each year to meet electricity demand in the winter. During the spring and summer, the impoundment is maintained at or near the full pond levels to protect and enhance fisheries, wetlands, wildlife and recreational resources. Algonquin manages the project to augment flows in the Aroostook River downstream of the project for generation at the Aroostook River Project No. 2367 and the Tinker Falls Project, the latter of which is located in New Brunswick Canada and is not a FERC-licensed project. The Scopan Project had an average annual generation of approximately 878,913 kilowatt-hours from 2012 through 2018.

The project's current license requires Algonquin to: (1) Maintain Scopan Lake water levels as follows: (a) From May 15 to July 31, fluctuate Scopan Lake by no more than one foot; (b) from July 16 to Labor Day, target the elevation of Scopan Lake between 601.0 to 603.0 feet NGVD; and (c) from October 1 to November 15, maintain the elevation of Scopan Lake at or above 601.0 feet NGVD; (2) release minimum flows of 21 cubic feet per second (cfs) from December 1 through May 15, and 25 cfs from May 16 through November 30; (3) close one of the two minimum flow valves if Scopan Lake falls below 601.5 feet NGVD; (4) close both minimum flow valves if Scopan Lake falls below 601 feet NGVD; and (5) limit the maximum discharge from the project to not more than 600 cfs from April 1 to November 30.

Algonquin proposes to: (1) Maintain Scopan Lake water surface elevations as follows: (a) From June 1 to July 31 limit water level fluctuations in Scopan Lake to no more than 0.5 vertical foot upward or 1.0 vertical foot downward within any 28-day period from June 1 through July 31; (b) from August 1 through Labor Day, maintain the water elevation of Scopan Lake between 601.0 and 603.0 feet NGVD; (c) from October 1 through November 15, maintain the water elevation of Scopan Lake above 601.0 feet NGVD; (d) limit winter drawdowns of Scopan Lake to no lower than 595.3 feet NGVD from November 16 to May 14; (2) limit the maximum discharge from the project to not more than 600 cfs from June 1 to November 30; and (3) continue to release a continuous minimum flow of 21 cfs including leakage from the minimum flow valves unless water levels in Scopan Lake fall below 601.5 feet NGVD from May 16 through November 30, in which case one valve would be closed.

m. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-2368). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule will be made as appropriate.

Milestone | Target date
Filing of interventions, protests, comments, recommendations, preliminary terms and conditions, and preliminary fishway prescriptions | July 2020
Commission issues Environmental Assessment | January 2021
Comments on Environmental Assessment | February 2021
Modified terms and conditions | April 2021

p. Final amendments to the application must be filed with the Commission no later than 30 days from the issuance date of this notice.

q. A license applicant must file no later than 60 days following the date of issuance of the notice of acceptance and ready for environmental analysis provided for in 18 CFR 5.22: (1) A copy of the water quality certification; (2) a copy of the request for certification, including proof of the date on which the certifying agency received the request; or (3) evidence of waiver of water quality certification.

Dated: May 6, 2020.
Kimberly D. Bose,
Secretary.

[FR Doc. 2020-10105 Filed 5-11-20; 8:45 am]

BILLING CODE 6717-01-P